FEDERAL ELECTION COMMISSION

Sunshine Act Meetings

AGENCY: Federal Election Commission.

TIME AND DATE: Thursday, March 6, 2014, at 10 a.m.

PLACE: 999 E Street NW., Washington, DC (Ninth Floor).

STATUS: This meeting will be open to the public.

MATTERS TO BE CONSIDERED:

Correction and Approval of Minutes for February 27, 2014

Draft Advisory Opinion 2014-01: Solano County United Democratic Central Committee

Technical Corrections to the 2013 Code of Federal Regulations

Proposed Final Audit Report on Dallas County Republican Party (A11-14)

Proposed Final Audit Report on Republican Party of Iowa (A11-24)

Proposed Final Audit Report on the Vermont Democratic Party (A11-12)

Proposed Final Audit Report on the Democratic Party of South Carolina (A11-19)

Management and Administrative Matters

Individuals who plan to attend and require special assistance, such as sign language interpretation or other reasonable accommodations, should contact Shawn Woodhead Werth, Secretary and Clerk, at (202) 694-1040, at least 72 hours prior to the meeting date.

CONTACT PERSON FOR MORE INFORMATION: Judith Ingram, Press Officer, Telephone: (202) 694-1220.

Shawn Woodhead Werth,
Secretary and Clerk of the Commission.

[FR Doc. 2014-04780 Filed 2-28-14; 11:15 am]

BILLING CODE 6715-01-P